DEPARTMENT OF LABOR

Employment and Training Administration

Notice of Availability of Funds and Solicitation for Grant Applications for Women in Apprenticeship and Nontraditional Occupations Technical Assistance Grants

AGENCY: Employment and Training Administration, Labor.

ACTION: Notice of Solicitation for Grant Applications (SGA).

Funding Opportunity Number: SGA/DFA PY-13-08.

SUMMARY: The U.S. Department of Labor's (the Department) Women's Bureau (WB) and Employment and Training Administration (ETA), announce the availability of approximately $1.8 million in grant funds authorized by the Women in Apprenticeship and Nontraditional Occupations (WANTO) Act of 1992, Public Law 102-530, 29 U.S.C. 2501 et seq. The Department plans to disburse Program Year (PY) 2013 and PY 2014 WANTO grant funds to up to four (4) community-based organization (CBO) grantees within the range of $400,000 to $650,000 for a 2-year grant period of performance. These grants are for the development and operation of innovative TA projects to improve outreach, recruitment, hiring, training, employment, and retention of women, women of color and women with disabilities in apprenticeships and nontraditional occupations.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is May 2, 2014. Applications must be received no later than 4:00:00 p.m. Eastern Time.

FOR FURTHER INFORMATION CONTACT: Latifa Jeter, 200 Constitution Avenue NW., Room N-4716, Washington, DC 20210; Telephone: 202-693-3553.

Signed April 3, 2014 in Washington, DC.
Eric D. Luetkenhaus,
Grant Officer, Employment and Training Administration.

[FR Doc. 2014-08052 Filed 4-9-14; 8:45 am]

BILLING CODE 4510-FN-P